DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is updating the identifying information on its Specially Designated Nationals and Blocked Persons List (SDN List) for two individuals whose property and interests in property subject to U.S. jurisdiction are blocked pursuant to Executive Order 13224, as amended.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On December 21, 2022, OFAC published the following revised information for the entries on the SDN List for the following individuals whose property and interests in property are blocked pursuant to Executive Order 13224 of September 23, 2001, “Blocking Property and Prohibiting Transactions With Persons Who Commit, Threaten To Commit, or Support Terrorism,” as amended by Executive Order 13886 of September 9, 2019, “Modernizing Sanctions to Combat Terrorism.”

Individuals:

1. BAYALTUN, Ismail, Atlikonak Koyu Koyichi Shanliurfa, Merkez, Shanliurfa, Turkey; DOB 21 Nov 1980; POB Akcakale, Turkey; nationality Turkey; citizen Turkey; Gender Male; Identification Number 43951946270 (Turkey) (individual) [SDGT] (Linked To: ISLAMIC STATE OF IRAQ AND THE LEVANT).

2. BAYALTUN, Ahmet, Atlikonak Mahallesi, Atlikonak Sokak, No:13, Eyyubiye, Shanliurfa, Turkey; DOB 21 Nov 1989; POB Akcakale, Turkey; nationality Turkey; citizen Turkey; Gender Male; Identification Number 43942946562 (Turkey) (individual) [SDGT] (Linked To: ISLAMIC STATE OF IRAQ AND THE LEVANT).

Dated: December 21, 2022.
Andrea M. Gacki,
Director, Office of Foreign Assets Control, U.S. Department of the Treasury.

[FR Doc. 2022-28143 Filed 12-23-22; 8:45 am]

BILLING CODE 4810-AL-P